INTERNATIONAL BOUNDARY AND WATER COMMISSION UNITED STATES AND MEXICO

United States Section; Notice of Availability of a Draft Environmental Assessment (EA) and Finding of No Significant Impact (FONSI) for Aquatic Habitat Restoration in the Rio Grande Canalization Project

AGENCY: United States Section, International Boundary and Water Commission, United States and Mexico (USIBWC).

ACTION: Notice.

SUMMARY: Pursuant to Section 102(2)(c) of the National Environmental Policy Act (NEPA) of 1969; the Council on Environmental Quality Final Regulations, and the United States Section, Operational Procedures for Implementing Section 102 of NEPA, published in the Federal Register September 2, 1981, (the United States Section hereby gives notice that the Draft Environmental Assessment and Finding of No Significant Impact for Aquatic Habitat Restoration in the Rio Grande Canalization Project is available. An Environmental Impact Statement will not be prepared unless additional information which may affect this decision is brought to our attention within 30 days from the date of this Notice.

DATES: Public Comments: USIBWC will consider substantive comments from the public and stakeholders for 30 days after the date of publication of this NOA in the Federal Register.

Please note all written and email comments received during the comment period will become part of the public record, including any personal information you may provide. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Public Hearing: USIBWC will be conducting a public hearing on June 12, 2019, 5 to 7 p.m., Las Cruces City Hall, 2nd Floor, Conference Room 2007B, 700 N. Main Street, Las Cruces, NM 88001.

ADDRESSES: Comments should be sent to: Elizabeth Verdecchia, Natural Resources Specialist, USIBWC, 4171 N. Mesa, C-100; El Paso, Texas 79902. Telephone: (915) 832-4701, Fax: (915) 493-2428, email: Elizabeth.Verdecchia@ibwc.gov.

FOR FURTHER INFORMATION CONTACT: Elizabeth Verdecchia, Natural Resources Specialist, USIBWC, 4171 N. Mesa, C-100; El Paso, Texas 79902. Telephone: (915) 832-4701, Fax: (915) 493-2428, email: Elizabeth.Verdecchia@ibwc.gov.

SUPPLEMENTARY INFORMATION:

Background: The USIBWC is identifying aquatic habitat restoration projects within the Rio Grande Canalization Project (RGCP). On June 4, 2009, the USIBWC issued a Record of Decision (ROD) on the long-term management of the RGCP. The ROD committed the USIBWC to the restoration of aquatic and riparian habitat at up to 30 sites over 10 years (through 2019).

The purpose is to identify, design, and implement aquatic habitat restoration sites to satisfy USIBWC's commitment for aquatic habitat in the 2009 ROD. Restoration actions could include invasive vegetation removal, native vegetation planting, overbank lowering, bank cuts, natural levee breaches, secondary channels, bank destabilization, channel widening, arroyo mouth management, construction of inset floodplains, and use of supplemental water for on-site irrigation.

The EA evaluates potential impacts of eight alternatives, including the No Action Alternative and the following sites: Yeso Arroyo, Angostura Arroyo, Broad Canyon Arroyo, Selden Point Bar, Las Cruces Effluent, Mesilla Valley Bosque State Park, and Downstream of Courchesne Bridge. Under the Preferred Alternative, USIBWC would implement up to four sites (Broad Canyon Arroyo, Selden Point Bar, Las Cruces Effluent, and Downstream of Courchesne Bridge). Permits would be required from the United States Army Corps of Engineers for dredge and fill of Waters of the United States, per the Clean Water Act Sections 404 and 401. Alternatives Las Cruces Effluent and Downstream of Courchesne Bridge would require engineering designs prior to construction, while Alternatives Broad Canyon Arroyo and Selden Point Bar, which are smaller and less complicated projects, could be constructed from conceptual designs.

Potential impacts on natural, cultural, and other resources were evaluated in the Draft EA. A FONSI has been prepared for the Preferred Alternatives, based on a review of the facts and analyses contained in the Draft EA.

Availability: The electronic version of the Draft EA is available at the USIBWC web page: https://www.ibwc.gov/EMD/EIS_EA_Public_Comment.html.

Dated: May 24, 2019.
Matt Myers,
Chief Legal Counsel, International Boundary and Water Commission, United States Section.

[FR Doc. 2019-11394 Filed 5-30-19; 8:45 am]

BILLING CODE 4710-03-P